DEPARTMENT OF DEFENSE

Department of the Army, Corps of Engineers

Board on Coastal Engineering Research

AGENCY: Department of the Army, DoD.

ACTION: Notice of advisory committee meeting.

SUMMARY: The Department of the Army is publishing this notice to announce the following Federal advisory committee meeting of the Board on Coastal Engineering Research (BCER). This meeting is open to the public.

DATES: The BCER will meet from 8:00 a.m. to 5:00 p.m. on August 13-14, 2024, and from 8:00 a.m. to 10:30 a.m. on August 15, 2024 Pacific Standard Time (PST). All sessions are open to the public.

ADDRESSES: The address of all sessions is The Westin St. Francis San Francisco on Union Square, 335 Powell Street, San Francisco, CA 94102.

FOR FURTHER INFORMATION CONTACT: Dr. Julie Dean Rosati, the Board's Designated Federal Officer (DFO), (251) 635-9519 (Voice), Julie.D.Rosati@usace.army.mil (email). Mailing address is Board on Coastal Engineering Research, U.S. Army Engineer Research and Development Center, Waterways Experiment Station, Coastal and Hydraulics Laboratory, 3909 Halls Ferry Road, Vicksburg, MS 39180-6199. Website: https://www.erdc.usace.army.mil/Locations/CHL/CERB/. The most up-to-date changes to the meeting agenda can be found on the website.

SUPPLEMENTARY INFORMATION: The meeting is being held under the provisions of the Federal Advisory Committee Act (FACA) (5 U.S.C. 10), the Government in the Sunshine Act (5 U.S.C. 552b), and Title 41 Code of Federal Regulations (CFR), sections 102-3.140 and 102-3.150.

Purpose of the Meeting: The Board's mission is to provide broad policy guidance and review and develop research plans and projects in consonance with the needs of the coastal engineering field and the objectives of the U.S. Army Chief of Engineers. The objective of this meeting is celebrating accomplishments of the BCER in 100 meetings and setting the stage for the BCER's future.

Agenda: Starting Tuesday morning August 13, 2024, at 8:00 a.m. the Board will be called to order and panel session one entitled, Celebrating BCER Accomplishments. Presentations include: History of BCER and Top Accomplishments; San Francisco Bay Modeling Regional Dredge Material Management Plan; San Francisco Bay Engineering With Nature Proving Grounds; Dam Removal on the West Coast; US Coastal Research Program: Outcomes of Decadal Workshop. Panel session two is titled Coastal System Focus: San Francisco Bay with presentations to include History of San Francisco Bay from an Environmental Context and an Introduction to the San Francisco Waterfront. The meeting will then adjourn for the day.

The Board will reconvene on August 14, 2024, with a panel discussion entitled Partnerships and Challenges in the Pacific. Presentations include Northeast Pacific Basin; Climate, Sea Level Change and Pacific Islands; Pacific Island Modeling and Kwajalein Flooding; Multi-jurisdictional and Community- Focused Sea Level Rise Adaptation Planning, Oakland Alameda Adaptation Committee; Progress and Challenges of the Tidal Marsh Restoration Effort in San Francisco Bay south Bay Salt Pond Restoration Project; and Innovations in Beneficial Use for Ecosystem Resilience. After Lunch the board will discuss ongoing initiatives, future actions, and give final comments. The oral public comment period will be 3:45-4:15 p.m. PT (see Meeting Accessibility for more details).

On August 15, 2024, the Board will conclude with a business discussion of the status of ongoing action items and next meeting timing, venue and focus.

Meeting Accessibility: Pursuant to 5 U.S.C. 552b, as amended, and 41 CFR 102-3.140 through 102-3.165, and subject to space availability, the meeting is open to the public both in-person and virtually. Because seating capacity is limited, advance registration is required. For registration requirements please see below. Persons desiring to participate in the meeting online or by phone are required to submit their name, organization, email, and telephone contact information to Ms. Jennifer Ratliff at Jennifer.r.ratliff@usace.army.mil no later than August 5, 2024. Specific instructions for virtual meeting participation, will be provided by reply email.

Oral participation by the public is scheduled for 3:45-4:15 p.m. PT on August 14, 2024. For additional information about public access procedures, please contact Dr. Julie Dean Rosati, the Board's DFO, at the email address or telephone number listed in the FOR FURTHER INFORMATION CONTACT section.

Registration: It is encouraged for individuals who wish to attend the meeting of the Board to register with the DFO by email, the preferred method of contact, no later than July 30, 2024, using the electronic mail contact information found in the FOR FURTHER INFORMATION CONTACT section. The communication should include the registrant's full name, title, affiliation or employer, email address, and daytime phone number. If applicable, include written comments or statements with the registration email.

Written Comments and Statements: In accordance with Section 10(a)(3) of the FACA and Title 41 CFR, Sections 102-3.015(j) and 102-3.140, the public or interested organizations may submit written comments or statements to the Board, in response to the stated agenda of the open meeting or in regard to the Board's mission in general. Written comments or statements should be submitted to Dr. Julie Dean Rosati, DFO, via electronic mail, the preferred mode of submission, at the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the FOR FURTHER INFORMATION CONTACT section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

Ty V. Wamsley,
Director, Coastal and Hydraulics Laboratory.

[FR Doc. 2024-15287 Filed 7-11-24; 8:45 am]

BILLING CODE 3720-58-P